DEPARTMENT OF COMMERCE

National Oceanic and Atmospheric Administration

50 CFR Part 622

RIN 0648-AW64

Fisheries of the Caribbean, Gulf of Mexico and South Atlantic; Snapper-Grouper Fishery off the Southern Atlantic States; Amendment 16

AGENCY: National Marine Fisheries Service (NMFS), National Oceanic and Atmospheric Administration (NOAA), Commerce.

ACTION: Notice of Availability of Amendment 16 to the South Atlantic Snapper-Grouper Fishery Management Plan; request for comments.

SUMMARY: The South Atlantic Fishery Management Council (Council) has submitted Amendment 16 to the Fishery Management Plan (FMP) for the Snapper-Grouper Fishery of the South Atlantic Region (Amendment 16) for review, approval, and implementation by NMFS. Amendment 16 was developed to address overfishing and other management issues in the snapper-grouper fishery. Amendment 16 would establish management reference points and specify interim allocations for the commercial and recreational sectors for gag and vermilion snapper, as well as implement management measures which would be applied to the commercial and recreational sectors of the snapper-grouper fishery. These management measures include: a four-month spawning season closure of the recreational and commercial shallow water grouper fisheries; a five-month closure of the recreational vermilion snapper fishery; commercial quotas for gag and vermilion snapper; a reduced recreational grouper aggregate bag limit (including tilefish) and vermilion snapper bag limit; and a requirement to use dehooking and venting tools to reduce bycatch mortality of snapper-grouper species.

DATES: Comments must be received no later than 5 p.m., eastern time, on February 23, 2009.

ADDRESSES: Comments on Amendment 16, identified by 0648-AW64, may be sent to either of the following addresses:

• Electronic submissions: Submit all electronic public comments via the Federal rule-making portal: www.regulations.gov

• Mail: John McGovern, NMFS, Southeast Regional Office, 263 13th Ave. South, St. Petersburg, FL 33701

• Fax: (727) 824-8308 Attn: John McGovern

Instructions: All comments received are a part of the public record and will generally be posted to www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only. Copies of Amendment 16, which includes a final environmental impact statement, a regulatory impact review, a regulatory flexibility analysis, and a fishery impact statement are available from the South Atlantic Fishery Management Council, 4055 Faber Place, Suite 201, North Charleston, SC 29405; telephone 843-571-4366; fax 843-769-4520; e-mail safmc@safmc.net.

FOR FURTHER INFORMATION CONTACT: John McGovern, telephone: 727-824-5305; fax: 727-824-5308; e-mail: John.McGovern@noaa.gov.

SUPPLEMENTARY INFORMATION: The South Atlantic snapper-grouper fishery is managed under the Snapper-Grouper FMP of the South Atlantic Region (Snapper-Grouper FMP). The Snapper-Grouper FMP was prepared by the Council and implemented by NMFS under the authority of the Magnuson-Stevens Fishery Conservation and Management Act (Magnuson-Stevens Act) by regulations at 50 CFR part 622.

Background

South Atlantic stocks of gag, vermilion snapper, red grouper and black grouper are classified as experiencing overfishing, and gag is classified as approaching an overfished condition. The proposed amendment would implement new management measures designed to address overfishing of these species and to protect all shallow-water grouper species (gag, black grouper, red grouper, scamp, rock hind, red hind, coney, graysby, yellowfin grouper, red grouper, yellowmouth grouper, and tiger grouper) during their spawning season. Also, the amendment would authorize NMFS' Southeast Regional Administrator to adjust vermilion snapper management measures to achieve optimum yield (OY) in the fishery based on the results of the recently completed stock assessment.

The amendment includes alternatives that specify interim allocations between the commercial and recreational sectors for the gag and vermilion snapper fisheries. This amendment also would implement new management reference points for gag and vermilion snapper, including maximum sustainable yield and OY, which reflect current scientific information as provided by the assessments and approved by the Council's Scientific and Statistical Committee. In addition, Amendment 16 includes alternatives that would establish a four-month spawning season closure of the recreational and commercial shallow-water grouper fisheries, a five-month closure of the recreational vermilion snapper fishery, specify commercial quotas for gag and vermilion snapper, reduce the recreational grouper aggregate bag limit (including tilefish) and the vermilion snapper bag limit, and require the use of venting tools and dehooking devices to reduce bycatch mortality of incidentally caught snapper-grouper species.

Procedural Aspects of Amendment 16

The Council has submitted Amendment 16 for Secretarial review, approval and implementation. NMFS' decision to approve, partially approve or disapprove Amendment 16 will be based, in part, on consideration of comments, recommendations, and information received during the comment period on this notice of availability (NOA). A proposed rule will be published in the Federal Register for public comment. After considering public comment on the NOA, and consistency with Magnuson-Stevens Act and other applicable laws, NMFS will publish a notice of agency action in the Federal Register announcing the Agency's decision to approve, partially approve or disapprove Amendment 16, and the associated rationale. If approved, the provisions of Amendment 16 would be specified in a final rule published in the Federal Register.

Consideration of Public Comments

Public comments received by 5 p.m. eastern time on February 23, 2009 will be considered by NMFS in the approval/disapproval decision regarding Amendment 16.

Authority: 16 U.S.C. 1801 et seq.

Dated: December 19, 2008.
Alan D. Risenhoover,
Office Director, Office of Sustainable Fisheries, National Marine Fisheries Service.

[FR Doc. E8-30714 Filed 12-23-08; 8:45 am]

BILLING CODE 3510-22-S